DEPARTMENT OF EDUCATION

34 CFR Parts 600, 668, and 690

[Docket ID ED-2022-OPE-0062]

RIN 1840-AD54, 1840-AD55, 1840-AD66, 1840-AD69

Pell Grants for Prison Education Programs; Determining the Amount of Federal Education Assistance Funds Received by Institutions of Higher Education (90/10); Change in Ownership and Change in Control

Correction

In Rule Document 2022-23078, appearing on pages 65426-65498 in the issue of Friday, October 28, 2022, make the following corrections:

1. On page 65486, in the second column, on the twentieth line, the section heading titled “§ 600. Institution of higher education.” is corrected to read as set forth below.

§ 600.4 Institution of higher education. [Corrected]

* * * * *

2. On page 65490, in the first column, on the thirty-sixth line, the section heading titled “§ 668.1 Program participation agreement.” is corrected to read as set forth below.

§ 668.14 Program participation agreement. [Corrected]

* * * * *

3. On page 65495, in the second column, on the seventeenth line, in the “contents section” listing, the entry titled “668.23 Scope and purpose.” is corrected to read “668.234 Scope and purpose.”

* * * * *

4. On the same page, in the same column, the section heading titled “§ 668.23 Scope and purpose.” is corrected to read as set forth below.

§ 668.234 Scope and purpose. [Corrected]

* * * * *

[FR Doc. C1-2022-23078 Filed 11-14-22; 2:00 pm]

BILLING CODE 0099-10-D